DEPARTMENT OF VETERANS AFFAIRS

Prosthetics and Special-Disabilities Programs, Notice of Meeting

The Department of Veterans Affairs (VA) gives notice under the Federal Advisory Committee Act, that a meeting and site visit of the Federal Advisory Committee on Prosthetics and Special-Disabilities Programs will be held on Tuesday, October 22—Wednesday, October 23, 2019, at VA Central Office, 810 Vermont Avenue NW, Washington, DC 20420, in conference room 630. The meeting sessions will begin and end as follow:

Date | Time
October 22, 2019 | 8:30 a.m.-4:00 p.m.
October 23, 2019 | 8:30 a.m.-12:00 p.m.

The meeting sessions are open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On October 22, 2019, the Committee will convene open sessions on Ethics; Establishment of New Subcommittees; MISSION Act Update; VHA Modernization Update; Chiropractic Care; and Clinical Orthotic and Prosthetic Services. On October 23, 2019, the Committee members convene open sessions on Physical Medicine and Rehabilitation, Polytrauma/Amputation System of Care; Blind Rehabilitation Service; and Spinal Cord Injury and Disorders System of Care.

No time will be allocated for receiving oral presentations from the public; however, members of the public may direct questions or submit written statements for review by the Committee in advance of the meeting to Judy Schafer, Ph.D., Designated Federal Officer, Rehabilitation and Prosthetic Services (10P4R), Patient Care Services, Veterans Health Administration, VA, 810 Vermont Avenue NW, Washington, DC 20420, or by email at Judy.Schafer@va.gov. Because the meeting is being held in a Government building, a photo I.D. must be presented at the Guard's Desk as a part of the clearance process. Therefore, you should allow an additional 30 minutes before the meeting begins. Any member of the public wishing to attend the meeting should contact Dr. Schafer at (202) 461-7315.

Dated: September 24, 2019.
LaTonya L. Small,
Federal Advisory Committee Management Officer.

[FR Doc. 2019-21016 Filed 9-26-19; 8:45 am]

BILLING CODE P